DEPARTMENT OF DEFENSE

Department of the Army; Corps of Engineers

Availability of Elizabeth River and Southern Branch Navigation Improvements Draft General Reevaluation Report/Environmental Assessment

AGENCY: Department of the Army, U.S. Army Corps of Engineers, DoD.

ACTION: Notice of availability.

SUMMARY: The U.S. Army Corps of Engineers (USACE) in association with the nonfederal sponsor, the Virginia Port Authority, an agent of the Commonwealth of Virginia, announces the availability of the Elizabeth River and Southern Branch Navigation Improvements Draft General Reevaluation Report/Environmental Assessment (GRR/EA) for public review and comment. The purpose of this Draft GRR/EA is to evaluate alternatives that have the potential to improve the current and future operational efficiency of commercial vessels currently using the Norfolk Harbor federal channel in the Elizabeth River. Channel deepening alternatives were evaluated as well as the No Action/Future without Project Alternative. Pursuant to the National Environmental Policy Act (NEPA) of 1969, as amended, the USACE developed the draft GRR/EA to examine and assess the impacts of the project alternatives and determined that implementation of the Proposed Action would not result in significant impacts.

DATES: The Draft GRR/EA is available for a 30-day review period. Written comments, pursuant to the NEPA, will be accepted until the close of public review at the close of business on January 15, 2018.

ADDRESSES: Written comments or questions from the public may be submitted to the U.S. Army Corps of Engineers, Norfolk District, ATTN: Mr. David Schulte, Planning Branch, Environmental Analysis Section (CENAO-WR-PE), 803 Front Street, Norfolk, VA 23510 or via email to david.m.schulte@usace.army.mil.

FOR FURTHER INFORMATION CONTACT: Mr. David Schulte, 757-201-7007.

SUPPLEMENTARY INFORMATION: The document is available at the following locations: (1) Elizabeth River and Southern Branch Navigation Improvements website: http://www.nao.usace.army.mil/About/Projects/ElizabethRiverSouthernBranchNav.aspx, (2) Slover Public Library, 235 East Plume Street, Norfolk, VA 23510. (3) Copies may also be requested in writing at (see ADDRESSES).

Proposed Action. The Study Area is located in Hampton Roads, a 25 square-mile natural harbor serving port facilities in the cities of Norfolk, Newport News, Portsmouth, Chesapeake, and Hampton in southeastern Virginia. The study area consists of a of a federally improved channel extending from Lamberts Bend (on the main stem of the Elizabeth River) to the Chesapeake Extension in the southern branch of the Elizabeth River.

The Action Alternative consists of constructing and maintaining the following features:

• Deepening the channel from Lamberts Bend to Perdue Farms (Segment 1a) from a required depth of 40 feet to 45 feet deep in Segment 1a, and deepening the channel from Perdue Farms to the Norfolk Southern Lift Bridge (Segment 1b) from a required depth of 40 feet to 42 feet.

• Deepening the channel from the Norfolk Southern Lift Bridge to the Gilmerton Bridge (Segment 2), from a required depth of 35 feet to 39 feet deep; and

• Continuing to maintain the channel from the Gilmerton Bridge to the Chesapeake Extension to a required depth of 35 feet (Segment 3).

Implementation of the Preferred Alternative would have the potential to impact water quality, benthic resources, cultural resources, floodplains, federally listed threatened and endangered species, marine mammals, and other natural resources. The Proposed Action must be located in a floodplain in order to use the Craney Island Dredged Material Management Area (CIDMMA) as a dredged material placement site. The Proposed Action will adhere to the 8-step process as outlined under Executive Order 11988, Floodplain Management.

Alternatives. The Draft GRR/EA considers a reasonable range deepening alternatives in the project channels to meet the proposed action's purpose and need. It also incorporates measures to avoid and minimize impacts to threatened and endangered species, fish and wildlife species, estuarine and marine habitat, and other resources. In response to problems and opportunities, a range of alternatives was evaluated through an iterative screening and formulation process, resulting in identification of a Preferred Alternative.

Public Involvement. On September 22, 2015, a Notice of Intent to publish an EA was published, along with information on a NEPA public scoping meeting on September 24, 2015. A Federal Register Notice was also published to announce the initiation of the feasibility study and also the public NEPA scoping meeting. As part of the public involvement process, all affected federal, Commonwealth of Virginia, and local agencies, private organizations, and the public were invited to the Public Scoping Meeting on September 24, 2015 in Norfolk, Virginia.

This study is authorized under Section 216 of the Flood Control Act of 1970 (Pub. L. 91-611), which authorizes the review of completed projects in the interest of navigation and related purposes to determine the feasibility of further port deepening.

Brenda S. Bowen,
Army Federal Register Liaison Officer.

[FR Doc. 2017-26724 Filed 12-11-17; 8:45 am]

BILLING CODE 3720-58-P